ENVIRONMENTAL PROTECTION AGENCY

[EPA-R04-OAR-2010-0255-201017; FRL-9163-9]

Adequacy Status of the Kentucky Portion of the Huntington-Ashland Tri-State Area 1997 Annual PM2.5 Attainment Demonstration Insignificance Finding for Transportation Conformity Purposes

AGENCY: Environmental Protection Agency (EPA).

ACTION: Notice of Adequacy.

SUMMARY: In this notice, EPA is notifying the public that EPA has made an insignificance finding through the transportation conformity adequacy process for directly emitted fine particulate matter (PM2.5) and nitrogen oxides (NOX) emissions as contained in the 1997 PM2.5 attainment demonstration for the Kentucky portion of the tri-state Huntington-Ashland nonattainment area. The tri-state Huntington-Ashland 1997 annual PM2.5 nonattainment area is comprised of Boyd County, Kentucky; Cabell and Wayne Counties, West Virginia; Lawrence and Scioto Counties, Ohio; and the partial Counties of Lawrence in Kentucky; Mason in West Virginia; and Adams and Gallia in Ohio. On December 5, 2008, the Commonwealth of Kentucky, through the Division of Air Quality (DAQ), submitted an attainment demonstration for the 1997 annual PM2.5 standard for the Kentucky portion of the tri-state Huntington-Ashland area (hereafter referred to as the Ashland Area). As a result of EPA's insignificance finding, the Ashland Area is no longer required to perform regional emissions analyses for either directly emitted PM2.5 or NOX as part of future PM2.5 conformity determinations for the 1997 annual PM2.5 air quality standard. This finding only relates to the Kentucky portion of the tri-state Huntington-Ashland 1997 PM2.5 nonattainment area. In a letter dated October 23, 2009, EPA informed the State of Ohio that regional mobile emissions of direct PM2.5 and NOX are insignificant for transportation conformity purposes as well. That insignificance finding took effect on December 22, 2009. EPA will review the adequacy of the West Virginia submittal in a separate action.

DATES: This insignificance finding for direct PM2.5 and NOX is effective July 6, 2010.

FOR FURTHER INFORMATION CONTACT: Dianna Smith, Environmental Scientist, U.S. Environmental Protection Agency, Region 4, Air Planning Branch, Air Quality Modeling and Transportation Section, 61 Forsyth Street, SW., Atlanta, Georgia 30303. Ms. Smith can also be reached by telephone at (404) 562-9207, or via electronic mail at smith.dianna@epa.gov. The finding is available at EPA's conformity Web site: http://www.epa.gov/otaq/stateresources/transconf/adequacy.htm.

SUPPLEMENTARY INFORMATION: This notice is simply an announcement of a finding that EPA has already made. EPA sent a letter to DAQ on March 23, 2010, stating that regional direct PM2.5 and NOX emissions are insignificant from mobile sources as provided in the Kentucky portion of the 1997 annual PM2.5 attainment demonstration for the tri-state Huntington-Ashland area. The Commonwealth of Kentucky submitted the 1997 annual PM2.5 attainment demonstration for the Ashland Area on December 5, 2008. Ohio and West Virginia provided separate submittals for their portion of this Area and EPA is addressing these submissions in actions separate from today's action. EPA posted the availability of the insignificance finding for the Ashland Area on EPA's Web site on September 8, 2009, as part of the adequacy process, for the purpose of soliciting comments. The comment period for Kentucky's submission ran from September 8, 2009, through October 8, 2009. During EPA's adequacy comment period for Kentucky's submission, no comments were received on the insignificance finding for the Ashland Area. Through this notice, EPA is informing the public of the insignificance finding for direct PM2.5 and NOX for the purpose of implementing transportation conformity in the Ashland Area for the 1997 PM2.5 standard. EPA's findings have also been announced on EPA's conformity Web site: http://www.epa.gov/otaq/stateresources/transconf/adequacy.htm.

Transportation conformity is required by section 176(c) of the Clean Air Act, as amended in 1990. EPA's conformity rule requires that transportation plans, programs and projects conform to State air quality implementation plans and establishes the criteria and procedures for determining whether or not they do. Conformity to a SIP means that transportation activities will not produce new air quality violations, worsen existing violations, or delay timely attainment of the national ambient air quality standards. On March 2, 1999, the District of Columbia Circuit Court ruled that submitted State Implementation Plans (SIPs) cannot be used for transportation conformity determinations until EPA has affirmatively found them adequate.

The criteria by which EPA determines whether a SIP's motor vehicle budget is adequate for transportation conformity purposes are outlined in 40 Code of Federal Regulations (CFR) 93.118(e)(4). The Transportation Conformity Rule in 40 CFR 93.109(k) states that a regional emissions analysis is no longer necessary if EPA finds through the adequacy or approval process that a SIP demonstrates that regional motor vehicle emissions are an insignificant contributor to the air quality problem for that pollutant/precursor. A finding of insignificance does not change the requirement for a regional analysis for other pollutants/precursors; the area's obligation to meet other transportation conformity requirements (i.e., other than the regional emissions analysis); and does not change the requirement for hot-spot analysis. (See 73 FR 4419, January 24, 2008.) Please note that an adequacy review is separate from EPA's completeness review, and it also should not be used to prejudge EPA's ultimate approval of the attainment demonstration plan for the Ashland Area. Even if EPA finds the insignificance finding for direct PM2.5 and NOX adequate, the attainment demonstration plan could later be disapproved.

Transportation partners should note this insignificance finding in future transportation conformity determinations. Additionally, while this insignificance finding waives the requirements for regional emissions analyses for direct PM2.5 and NOX for the Ashland Area for the 1997 PM2.5 standard, as mentioned above, it does not waive other conformity requirements for the 1997 PM2.5 standard for the Ashland Area, nor does it waive transportation conformity requirements for other pollutants/precursors for which the Area may be designated nonattainment or redesignated to attainment with a maintenance plan.

EPA has described the process for determining the adequacy of submitted SIP budgets in a May 14, 1999, memorandum entitled “Conformity Guidance on Implementation of March 2, 1999, Conformity Court Decision.” EPA has followed this guidance in making this adequacy determination. This guidance is incorporated into EPA's July 1, 2004, final rulemaking entitled “Transportation Conformity Rule Amendments for the New 8-hour Ozone and PM2.5 National Ambient Air Quality Standards and Miscellaneous Revisions for Existing Areas; Transportation Conformity Rule Amendments: Response to Court Decision and Additional Rule Changes” (69 FR 40004).

Authority: 42 U.S.C. 7401 et seq.

Dated: June 9, 2010.
Beverly H. Banister,
Acting Regional Administrator, Region 4.

[FR Doc. 2010-14774 Filed 6-17-10; 8:45 am]

BILLING CODE 6560-50-P